DEPARTMENT OF ENERGY

Federal Energy Regulatory Commission

[Docket Nos. RP01-236-009; RP00-553-012; and RP00-481-009]

Transcontinental Gas Pipe Line Corporation; Notice of Compliance Filing

February 6, 2003.

Take notice that on January 31, 2003, Transcontinental Gas Pipe Line Corporation (Transco), tendered for filing as part of its FERC Gas Tariff, Third Revised Volume No. 1, the tariff sheets list on Appendix A attached to the filing, with a proposed effective date of April 1, 2003.

Transco states that the tariff sheets enumerated in Appendix A are submitted to comply with the Commission's August 29, 2002 order in the referenced proceedings, which directed that Transco update certain tariff sheets related to the implementation of Transco's new business system, 1Linesm. In addition, Transco proposes to move into effect on April 1, 2003. certain tariff sheets identified in Appendix C, attached to the filing, which require no updating and which already have been accepted by the Commission in the referenced proceedings.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 12, 2003.

Magalie R. Salas,
Secretary.

[FR Doc. 03-3540 Filed 2-12-03; 8:45 am]

BILLING CODE 6717-01-P